DEPARTMENT OF ENERGY

Environmental Management Site-Specific Advisory Board, Fernald

AGENCY: Department of Energy.

ACTION: Notice of open meeting.

SUMMARY: This notice announces a meeting of the Environmental Management Site-Specific Advisory Board (EMSSAB), Fernald. The Federal Advisory Committee Act (Pub. L. 92-463, 86 Stat. 770) requires that public notice of this meeting be announced in the Federal Register.

DATES: Saturday, March 12, 2005, 8:30 a.m.-12 noon.

ADDRESSES: Ross Township Firehouse, 2565 Cincinnati-Brookville Road, Ross Township, Ohio 45061.

FOR FURTHER INFORMATION CONTACT: Doug Sarno, The Perspectives Group, Inc., 1055 North Fairfax Street, Suite 204, Alexandria, VA 22314, at (703) 837-1197, or e-mail djsarno@theperspectivesgroup.com.

SUPPLEMENTARY INFORMATION: Purpose of the Board: The purpose of the Board is to make recommendations to DOE in the areas of environmental restoration, waste management, and related activities.

Tentative Agenda:

8:30 a.m. Call to Order

8:35 a.m. Updates and Announcements

—Projects and Updates

—Silos and Critical Analysis Team

—Environmental Management Budget

—Ex-Officio Updates

9 a.m. Legacy Management Updates

9:45 a.m. FCAB History Project

—Structure

—Examples

10:30 a.m. Break

10:45 a.m. Workshop Plans

—History Roundtable

—Educators Workshop

11:30 a.m. Preparation for April SSAB Chairs Meeting

11:50 a.m. Public Comment

12 p.m. Adjourn

Public Participation: The meeting is open to the public. Written statements may be filed with the Board chair either before or after the meeting. Individuals who wish to make oral statements pertaining to agenda items should contact the Board chair at the address or telephone number listed below. Requests must be received five days prior to the meeting and reasonable provisions will be made to include the presentation in the agenda. The Deputy Designated Federal Officer, Gary Stegner, Public Affairs Office, Ohio Field Office, U.S. Department of Energy, is empowered to conduct the meeting in a fashion that will facilitate the orderly conduct of business. Individuals wishing to make public comment will be provided a maximum of five minutes to present their comments. This Federal Register notice is being published less than 15 days prior to the meeting date due to programmatic issues that had to be resolved prior to the meeting date.

Minutes: The minutes of this meeting will be available for public review and copying at the Department of Energy's Freedom of Information Public Reading Room, 1E-190, Forrestal Building, 1000 Independence Avenue, SW., Washington, DC 20585, between 9 a.m. and 4 p.m., Monday-Friday, except Federal holidays. Minutes will also be available by writing to the Fernald Citizens' Advisory Board, Phoenix Environmental Corporation, MS-76, Post Office Box 538704, Cincinnati, OH 43253-8704, or by calling the Advisory Board at (513) 648-6478.

Issued in Washington, DC, on February 28, 2005.
Rachel Samuel,
Deputy Advisory Committee Management Officer.

[FR Doc. 05-4117 Filed 3-2-05; 8:45 am]

BILLING CODE 6450-01-M